DEPARTMENT OF AGRICULTURE

Forest Service

Alpine County Resource Advisory Committee (RAC)

AGENCY: Forest Service, USDA.

ACTION: Notice of meeting.

SUMMARY: The Alpine County Resource Advisory Committee (RAC) will hold a meeting.

DATES: The meeting will be held on Tuesday, March 15, 2011 and will begin at 6 p.m.

ADDRESSES: The meeting will be held in Alpine County at the Alpine Early Learning Center, 100 Foothill Road, Markleeville, CA 96120.

FOR FURTHER INFORMATION CONTACT: Daniel Morris, RAC Coordinator, USDA, Humboldt-Toiyabe National Forest, Carson Ranger District, 1536 S. Carson Street, Carson City, NV 89701, (775) 884-8140; e-mail danielmorris@fs.fed.us.

SUPPLEMENTARY INFORMATION: Agenda items to be covered include:

(1) Review and recommend funding allocation for proposed projects. (2) Determine timeframes for the next round of project proposals. (3) Public Comment. The meeting is open to the public. Public input opportunity will be provided and individuals will have the opportunity to address the Committee at that time.

Dated: January 31, 2011.
Genny E. Wilson,
Designated Federal Officer.

[FR Doc. 2011-2514 Filed 2-3-11; 8:45 am]

BILLING CODE 3410-11-M